DEPARTMENT OF DEFENSE

Office of the Secretary

[Docket ID: DOD-2025-OS-0804]

Submission for OMB Review; Comment Request

AGENCY: Office of the Under Secretary of Defense for Intelligence and Security (OUSD(I&S)), Department of Defense (DoD).

ACTION: 30-Day information collection notice.

SUMMARY: The Department of War has submitted to the Office of Management and Budget (OMB) for clearance the following proposal for collection of information under the provisions of the Paperwork Reduction Act.

DATES: Consideration will be given to all comments received by March 27, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: FOCI Outside Director/Proxy Holder Nominee and Nominating Official Questionnaires; OMB Control Number 0705-0005.

Type of Request: Revision.

Number of Respondents: 256.

Responses per Respondent: 1.

Annual Responses: 256.

Average Burden per Response: 45 minutes.

Annual Burden Hours: 192.

Needs and Uses: The Foreign Ownership, Control, or Influence (FOCI) Outside Director/Proxy Holder Nominee and Nominating Official Questionnaires are essential for the Defense Counterintelligence and Security Agency (DCSA) to effectively oversee companies operating under FOCI while performing United States Government contracts. This information allows DCSA to assess the qualifications and suitability of Outside Director/Proxy Holder(s) (OD/PH) nominees, ensuring they can mitigate foreign influence and protect sensitive government information. Data from nominating officials provides insight into the rationale behind the nomination, enabling DCSA to make informed decisions regarding OD/PH approvals and safeguard national security interests.

Affected Public: Individuals or households; Business or other for-profit.

Frequency: On occasion.

Respondent's Obligation: Voluntary.

DOD Clearance Officer: Mr. Reginald Lucas.

Dated: February 23, 2026.
Stephanie J. Bost,
Alternate OSD Federal Register Liaison Officer, Department of Defense.

[FR Doc. 2026-03735 Filed 2-24-26; 8:45 am]

BILLING CODE 6001-FR-P